DEPARTMENT OF THE INTERIOR

National Park Service

[NPS-WASO-NAGPRA-31940; PPWOCRADN0-PCU00RP16.R50000]

Native American Graves Protection and Repatriation Review Committee Notice of Public Meetings

AGENCY: National Park Service, Interior.

ACTION: Meeting notice.

SUMMARY: The National Park Service is hereby giving notice that the Native American Graves Protection and Repatriation Review Committee (Committee) will hold six virtual meetings as indicated below.

DATES: The Committee will meet via teleconference on June 28, 2021; July 7, 2021; July 13, 2021; July 21, 2021; August 10, 2021; and August 19, 2021, from 3:00 p.m. until approximately 6:00 p.m. (Eastern). All meetings are open to the public.

FOR FURTHER INFORMATION CONTACT: Melanie O'Brien, Designated Federal Officer, National Native American Graves Protection and Repatriation Act (NAGPRA) Program (2253), National Park Service, telephone (202) 354-2201, or email nagpra_info@nps.gov.

SUPPLEMENTARY INFORMATION: The Committee will meet virtually on June 28, 2021; July 7, 2021; July 13, 2021; July 21, 2021; August 10, 2021; and August 19, 2021, from 3:00 p.m. until approximately 6:00 p.m. (Eastern).

The agenda for each meeting may include a report from the National NAGPRA Program; the discussion of the Committee Report to Congress; subcommittee reports and discussion; and other topics related to the Committee's responsibilities under section 8 of NAGPRA. In addition, the agenda may include requests to the Committee for a recommendation to the Secretary of the Interior that an agreed-upon disposition of Native American human remains proceed. The meetings will be open to the public and there will be time for public comments. Written comments may be sent to see FOR FURTHER INFORMATION CONTACT. All comments received will be provided to the Committee.

Information on joining the virtual conference by internet or phone will be available on the National NAGPRA Program website at https://www.nps.gov/orgs/1335/events.htm.

Background

The Committee was established in section 8 of the Native American Graves Protection and Repatriation Act of 1990. Information about NAGPRA, the Committee, and Committee meetings is available on the National NAGPRA Program website at https://www.nps.gov/orgs/1335/events.htm.

The Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Committee's work is carried out during the course of meetings that are open to the public.

Public Disclosure of Comments: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2; 25 U.S.C. 3006.

Alma Ripps,
Chief, Office of Policy.

[FR Doc. 2021-11098 Filed 6-1-21; 8:45 am]

BILLING CODE 4312-52-P